GENERAL SERVICES ADMINISTRATION

[Notice-ID-2020-01; Docket No. 2020-0002; Sequence No. 6]

Privacy Act of 1974; Rescindment of a System of Records Notice

AGENCY: General Services Administration, (GSA).

ACTION: Notice.

SUMMARY: Pursuant to the Privacy Act of 1974 and Office of Management and Budget (OMB) Circular No. A-108, notice is hereby given that the General Services Administration (GSA) proposes to rescind the GSA/PBS-6 Electronic Acquisition System (EAS) SORN. EAS no longer maintains any Personally Identifiable Information (PII). GSA's replacement for EAS, the EASi application, accesses vendor information from the System for Award Management (SAM) GSA/GOVT-9, where this information is collected and stored.

DATES: Applicable: October 30, 2020.

ADDRESSES: Submit comments identified by “Notice-ID-2020-01, Rescindment of a System of Records” by any of the following methods:

• Regulations.gov: http://www.regulations.gov by searching for Notice-ID-2020-01, Rescindment of a System of Records Notice. Select the link “Comment Now” that corresponds with “Notice-ID-2020-01, Rescindment of a System of Records Notice.” Follow the instructions provided on the screen. Please include your name, company name (if any), and “Notice-ID-2020-01, Rescindment of a System of Records Notice” on your attached document.

• Mail: General Services Administration, Regulatory Secretariat Division (MVCB), 1800 F Street NW, Washington, DC 20405. ATTN: Ms. Mandell/Notice-ID-2020-01, Rescindment of a System of Records Notice.

FOR FURTHER INFORMATION CONTACT: Call or email the GSA Chief Privacy Officer: telephone 202-322-8246; email gsa.privacyact@gsa.gov.

SUPPLEMENTARY INFORMATION: EAS (also known as Comprizon) was decommissioned on September 30, 2016 when the EASi application fully came online and all active EAS/Comprizon contracts were migrated into the new EASi application. A complete snapshot of the EAS/Comprizon data was taken and stored in the Business Intelligence (BI) database. The snapshot still exists in the BI database today and is used for querying and reporting purposes. None of the EAS/Comprizon records currently in the BI database contain PII. The replacement system for EAS, EASi, also does not contain PII. The vendor information is directly collected and stored in SAM.

SYSTEM NAME AND NUMBER:

GSA/PBS-6 Electronic Acquisition System (EAS).

HISTORY:

73 FR 22389.

Richard Speidel,
Chief Privacy Officer, Office of the Deputy Chief Information Officer, General Services Administration.

[FR Doc. 2020-24077 Filed 10-29-20; 8:45 am]

BILLING CODE 6820-34-P